DEPARTMENT OF DEFENSE

Department of the Army

Availability for Non-Exclusive, Exclusive, or Partially Exclusive Licensing of U.S. Patent Application Concerning Aperture Stop with Low Backscattering

AGENCY: Department of the Army, DoD.

ACTION: Notice.

SUMMARY: In accordance with 37 CFR 404.6 and 404.7, announcement is made of the availability for licensing of U.S. Patent Application No. 10/006,316 entitled “Aperture Stop with Low Backscattering,” filed December 4, 2001. Foreign rights are also available (PCT/US02/38225). The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: A system including but not limited to a low-backscatter aperture structure, where the system can include but is not limited to a camera, an optical communications system, an imaging system, a test system, and a measurement system.

Luz D. Ortiz,
Army Federal Register Liaison Officer.

[FR Doc. 03-16874 Filed 7-2-03; 8:45 am]

BILLING CODE 3710-08-M